DEPARTMENT OF THE INTERIOR

National Park Service

National Register of Historic Places; Notification of Pending Nominations

Nominations for the following properties being considered for listing in the National Register were received by the National Park Service before August 31, 2002. Pursuant to section 60.13 of 36 CFR Part 60 written comments concerning the significance of these properties under the National Register criteria for evaluation may be forwarded by United States Postal Service, to the National Register Historic Places, National Park Service, 1849 C St. NW., NC400, Washington, DC 20240; by all other carriers, National Register of Historic Places, National Park Service, 1201 Eye St. NW., 8th floor, Washington DC 20005; or by fax, 202-343-1836. Written or faxed comments should be submitted by October 8, 2002.

Carol D. Shull,
Keeper of the National Register of Historic Places.

MISSOURI

Bates County

Hudson City School, Approx. 1 mi. NW of MO 52 and Hwy. W, Appleton City, 02001110

Ripley County

Sylvan School, Cty Rd H4, approx. 2 mi. SW of jct. MO 142 and W, Naylor, 02001109

NEW JERSEY

Monmouth County

Grover House, 940 W. Front St., Middletown, 02001121

NEW MEXICO

Eddy County

Tansill, Robert Weems and Mary E., House, 1612 N. Guadalupe St., Carlsbad, 02001111

NEW YORK

Cayuga County

Sterling District No. 5 Schoolhouse, NY104A, Sterling, 02001119

Erie County

Garrison Cemetery, Aero Dr., Cheetowaga, 02001113

Jefferson County

Taylor, Emma Flower, Mansion, 241 Clinton St., Watertown, 02001114

Kings County

Senator Street Historic District, 318-370 and 317-347 Senator St., Brooklyn, 02001115

New York County

Stanton Street Shul, 180 Stanton St., New York, 02001116

Ontario County

First Baptist Church, 134 N. Main St., Geneva, 02001118

Genesee Park Historic District, Genesee Park, Genesee Park Place, and Genesee and Lewis Sts., Geneva, 02001117

Ulster County

Vosburg Turning Mill Complex, 52 Hutchin Hill Rd., Woodstock, 02001120

NORTH CAROLINA

Washington County

Creswell Historic District, Roughly bounded by 208 E. Main St. and 310 W. Main St., 302-304 S. Sixth Sts., and 219 N. Sixth St., Creswell, 02001112

OHIO

Summit County

Humberger House, (Canal, Railroad, and Industrial Resources of the Village of Clinton/Warwick, Ohio MPS) 7616 N 2nd Ave., Clinton, 02001122

Sorrick—Oster Store, (Canal, Railroad, and Industrial Resources of the Village of Clinton/Warwick, Ohio MPS) 7846 Main St., Clinton, 02001123

OREGON

Multnomah County

Keck, H.C., House—Mt. Olivet Parsonage, (Eliot Neighborhood MPS) 53 NE Thompson St., Portland, 02001124

WISCONSIN

Dane County

Dowling Apartment Building, 445-447 W. Wilson St., Madison, 02001127

Hotel Loraine, 119-123 W. Washington Ave., Madison, 02001125

Madison Gas and Electric Company Powerhouse, 100 S. Blount St., Madison, 02001126

[FR Doc. 02-24057 Filed 9-20-02; 8:45 am]

BILLING CODE 4310-70-P